DEPARTMENT OF HEALTH AND HUMAN SERVICES

Office of the Secretary

[Document Identifier: 0990-0419-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0419, scheduled to expire on June 30, 2017. Comments submitted during the first public review of this ICR will be provided to OMB. OMB will accept further comments from the public on this ICR during the review and approval period.

DATES: Comments on the ICR must be received on or before May 10, 2017.

ADDRESSES: Submit your comments to OIRA_submission@omb.eop.gov or via facsimile to (202) 395-5806.

FOR FURTHER INFORMATION CONTACT: Information Collection Clearance staff, Information.CollectionClearance@hhs.gov or (202) 795-7714.

SUPPLEMENTARY INFORMATION: When submitting comments or requesting information, please include the OMB control number 0990-0419 and document identifier 0990-0419-30D for reference.

Information Collection Request Title: Acquisition Regulation Clause Patent Rights and Rights and Data.

Abstract: The Department of Health and Human Services; Office of the Assistant.Secretary for Financial Resources and Office of Grants and Acquisition Policy and Accountability, Division of Acquisition. is requesting an approval by OMB for an extension of a previously approved information collection request, 0990-0419—Acquisition Regulation Clause Patent rights and Rights in Data. HHS found that systematically, over a period of several years, when Determination of Exceptional Circumstances (DEC) were executed, additional legal protection for the patent and data rights of third parties beyond those covered by FAR 27.306 were necessary A DEC is executed consistent with the policy and objectives of the Bayh-Dole Act, 35 U.S.C. 200, et. seq., to ensure that subject inventions made under contracts and subcontracts (at all tiers) are used in a manner to promote free competition and enterprise without unduly encumbering future research and discovery; to encourage maximum participation of small business firms in federally supported research and development efforts; to promote collaboration between commercial concerns and nonprofit organizations including universities; to ensure that the Government obtains sufficient rights in federally supported inventions to meet its needs; to protect the public against nonuse or unreasonable use of inventions; and in the case of fulfilling the mission of the U.S. Department of Health and Human Services, to ultimately to benefit the public health.

Likely Respondents: Administrative, technical, legal and management personnel.

The total annual burden hours estimated for this ICR are summarized in the table below.

Information collection | Type of respondent and hours for each | Number of respondents | Number of responses per respondent | Average burden per response (hours) | Total burden hours
(a) | Technical (4), Legal (2), Management (2) | 63 | 1 | 8 | 504
(b) | Technical (8), Legal (2), Management (2) | 63 | 1 | 12 | 756
(c) | Technical (8), Legal (3), Management (1) | 63 | 3 | 12 (36) | 2268
(d) | Technical (8), Legal (4), Management (2) | 63 | 3 | 14 (42) | 2646
(e) | Technical (6), Legal (2), Management (2) | 63 | 1 | 10 | 630
(f) | Technical (4), Legal (2), Management (2) | 63 | 1 | 8 | 504
(g) | Administrative (8) | 63 | 3 | 8 (24) | 1512
(h) | Administrative (2), Management (1) | 63 | 3 | 3 (9) | 567
(i) | Technical (4), Legal (2), Management (2) | 63 | 3 | 8 (24) | 1512
Total |  | 63 | 19 | 83 (173) | 10,899

Terry S. Clark,
Asst Information Collection Clearance Officer.

[FR Doc. 2017-07143 Filed 4-7-17; 8:45 am]

BILLING CODE 4150-24-P